DEPARTMENT OF HOMELAND SECURITY

Federal Emergency Management Agency

[Docket ID FEMA-2021-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of September 24, 2021 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Emmet County, Iowa and Incorporated Areas
Docket No.: FEMA-B-2019
City of Armstrong | City Hall, 519 6th Street, Armstrong, IA 50514.
City of Estherville | City Hall, 2 North 7th Street, Estherville, IA 51334.
City of Wallingford | City Hall, 101 St. James Avenue, Wallingford, IA 51365.
Unincorporated Areas of Emmet County | Emmet County Courthouse, 609 1st Avenue North, Estherville, IA 51334.
Lyon County, Iowa and Incorporated Areas
Docket No.: FEMA-B-2031
City of Alvord | City Hall, 302 Main Street, Alvord, IA 51230.
City of Doon | City Hall, 100 3rd Avenue, Doon, IA 51235.
City of George | City Hall, 120 South Main Street, George, IA 51237.
City of Inwood | City Hall, 103 South Main Street, Inwood, IA 51240.
City of Lester | City Hall, 105 West 5th Street, Lester, IA 51242.
City of Little Rock | City Hall, 402 Main Street, Little Rock, IA 51243.
City of Rock Rapids | City Hall, 310 South 3rd Street, Rock Rapids, IA 51246.
Unincorporated Areas of Lyon County | Lyon County Courthouse, 206 South 2nd Avenue, Rock Rapids, IA 51246.
Cottonwood County, Minnesota and Incorporated Areas
Docket No.: FEMA-B-2019
City of Mountain Lake | City Hall, 930 3rd Avenue, Mountain Lake, MN 56159.
City of Windom | City Hall, 444 9th Street, Windom, MN 56101.
Unincorporated Areas of Cottonwood County | Cottonwood County Environmental Office, 339 9th Street, Windom, MN 56101.
Kittitas County, Washington and Incorporated Areas
Docket No.: FEMA-B-1853
City of Cle Elum | City Hall, 119 West First Street, Cle Elum, WA 98922.
City of Ellensburg | City Hall, 501 North Anderson Street, Ellensburg, WA 98926.
City of Kittitas | City Hall, 207 North Main Street, Kittitas, WA 98934.
City of Roslyn | City Hall, 201 South 1st Street, Roslyn, WA 98941.
Town of South Cle Elum | Town Hall, 523 Lincoln Avenue, South Cle Elum, WA 98943.
Unincorporated Areas of Kittitas County | Kittitas County Department of Public Works, 411 North Ruby Street, Suite 1, Ellensburg, WA 98926.

[FR Doc. 2021-14115 Filed 6-30-21; 8:45 am]

BILLING CODE 9110-12-P